DEPARTMENT OF ENERGY

Federal Energy Regulatory Commission

[Docket No. CP05-73-000]

Northern Natural Gas Company; Notice of Intent To Prepare an Environmental Assessment for the Proposed Waconia Pig Launcher Project and Request for Comments on Environmental Issues

April 15, 2005.

The staff of the Federal Energy Regulatory Commission (FERC or Commission) will prepare an environmental assessment (EA) on Northern Natural Gas Company's (Northern Natural) proposed Waconia Pig Launcher Project. Northern Natural's proposal involves construction and operation of two pig launchers at a site in Carver County, Minnesota. This notice announces the opening of the scoping process that will be used to gather environmental input from the public and interested agencies on the project. Please note that the scoping period will close on May 16, 2005.

This notice is being sent to potentially affected landowners; Federal, State, and local government agencies; elected officials; environmental and public interest groups; Native American tribes; parties on the Commission's official service list for this proceeding; and local libraries and newspapers. State and local government representatives are asked to notify their constituents of this proposed project and encourage them to comment on their areas of concern.

If you are a landowner receiving this notice, you may be contacted by a Northern Natural representative about the acquisition of an easement to construct, operate, and maintain the proposed facility. Northern Natural would seek to negotiate a mutually acceptable agreement. However, if the project is approved by the Commission, that approval conveys with it the right of eminent domain. Therefore, if easement negotiations fail to produce an agreement, Northern Natural could initiate condemnation proceedings in accordance with State law.

A fact sheet prepared by the FERC entitled “An Interstate Natural Gas Facility on My Land? What Do I Need To Know?” is available for viewing on the FERC Web site (http://www.ferc.gov). This fact sheet addresses a number of typically asked questions, including how to participate in the Commission's proceedings.

Summary of the Proposed Project

A pipeline “pig” is a device used to clean or inspect the inside of a pipeline. A pig launcher is an aboveground facility where pipeline pigs are inserted or retrieved from the pipeline. Northern Natural ¹ seeks the authority to construct and operate two pig launchers and appurtenant equipment at a location where the Waconia Branchlines diverge from the Willmar Branchline, about 4 miles south-southwest of Waconia in Carver County, Minnesota. The proposed pig launchers would enable Northern Natural to insert internal inspection pigs into each of the branchlines in order to perform risk and integrity assessments. Northern Natural is required to conduct these studies to comply with the Pipeline Safety Improvement Act of 2002 and the Department of Transportation's Final Integrity Management Rule for High Consequence Areas.

¹ Northern Natural's application was filed with the Commission under Section 7(c) of the Natural Gas Act and part 157 of the Commission's regulations.

The Waconia Branchlines are two parallel pipelines, 6 and 8 inches in diameter, which carry natural gas between the Willmar Branchline and Waconia, Minnesota. An aboveground mainline valve is presently located at the site where the pig launchers would be installed. The general location of the project is shown in Appendix 1.²

² The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the Additional Information section below. Copies of the appendices were sent to all those receiving this notice in the mail.

Land Requirements

About 1.43 acres of agricultural land (i.e., a parcel measuring 250 feet by 250 feet) would be disturbed during construction. Northern Natural's current easement for the valve site would need to be increased by about 0.08 acre (100 feet by 35 feet) to accommodate the proposed pig launcher.

The EA Process

We ³ are preparing the EA to comply with the National Environmental Policy Act (NEPA) which requires the Commission to take into account the environmental impacts that could result from an action whenever it considers the issuance of a Certificate of Public Convenience and Necessity. NEPA also requires us to discover and address concerns the public may have about proposals and to ensure those issues and concerns are analyzed in the EA. This process is referred to as “scoping.” The main goal of the scoping process is to focus the analysis in the EA on the important environmental issues and reasonable alternatives. By this notice, we are requesting public comment on the scope of the issues to be addressed in the EA. All comments received will be considered during the preparation of the EA. To ensure your comments are considered, please carefully follow the instructions in the Public Participation section on the following page.

³ ”We,” “us,” and “our” refer to the environmental staff of the Office of Energy Projects.

By this notice, we are also asking Federal, State, and local agencies with jurisdiction and/or special expertise with respect to environmental issues to formally cooperate with us in the preparation of the EA. Agencies that would like to request cooperating status should follow the instructions for filing comments provided on the next page.

The EA will present our independent analysis of the issues. Depending on the comments received during the scoping process, the EA may be published and mailed to those entities receiving this notice and any other interested parties identified during our review of Northern Natural's project. A comment period will be allotted for review if the EA is published. We will consider all comments on the EA before we make our recommendations to the Commission.

Public Participation

You can make a difference by providing us with your specific comments or concerns about the project. By becoming a commentor, your concerns will be addressed in the EA and considered by the Commission. You should focus on the potential environmental effects of the proposal, reasonable and practicable alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of Gas Branch 1;

• Reference Docket No. CP05-73-000; and

• Mail your comments so that they will be received in Washington, DC on or before May 16, 2005.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's official service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. To register for this service, go to http://www.ferc.gov/esubscribenow.htm.

Magalie R. Salas,
Secretary.

[FR Doc. E5-1897 Filed 4-21-05; 8:45 am]

BILLING CODE 6717-01-P